DEPARTMENT OF LABOR

Employment and Training Administration

[TA-W-40,585]

Center Finishing, Jersey City, NJ; Notice of Termination of Investigation

Pursuant to section 221 of the Trade Act of 1974, an investigation was initiated on January 1, 2002 in response to a worker petition, which was filed by the Union of Needletrades, Industrial and Textile Employees (UNITE) on behalf of workers at Center Finishing, Jersey City, New Jersey.

The Department of Labor was unable to locate an official of the company to obtain the information necessary to render a decision.

Signed in Washington, DC, this 13th day of May, 2002.
Linda G. Poole,
Certifying Officer, Division of Trade Adjustment Assistance.

[FR Doc. 02-15444 Filed 6-18-02; 8:45 am]

BILLING CODE 4510-30-P